DEPARTMENT OF THE INTERIOR

National Park Service

[NPS-WASO-NAGPRA-NPS0037315; PPWOCRADN0-PCU00RP14.R50000]

Notice of Inventory Completion: U.S. Department of the Interior, Fish and Wildlife Service, Stillwater National Wildlife Refuge, Fallon, NV

AGENCY: National Park Service, Interior.

ACTION: Notice.

SUMMARY: In accordance with the Native American Graves Protection and Repatriation Act (NAGPRA), the U.S. Department of the Interior, Fish and Wildlife Service, Stillwater National Wildlife Refuge has completed an inventory of human remains and associated funerary objects and has determined that there is a cultural affiliation between the human remains and associated funerary objects and Indian Tribes or Native Hawaiian organizations in this notice. The human remains and associated funerary objects were removed from Churchill County, NV.

DATES: Repatriation of the human remains and associated funerary objects in this notice may occur on or after February 29, 2024.

ADDRESSES: Patrick W. Rennaker, Archaeologist, U.S. Fish and Wildlife Service, Cultural Resources Team, Columbia Pacific Northwest and Pacific Islands (R1), and Pacific Southwest (R8), 20555 Gerda Lane, Sherwood, OR 97140, telephone (503) 294-7490, email 665atrick_rennaker@fws.gov.

SUPPLEMENTARY INFORMATION: This notice is published as part of the National Park Service's administrative responsibilities under NAGPRA. The determinations in this notice are the sole responsibility of the Stillwater National Wildlife Refuge. The National Park Service is not responsible for the determinations in this notice. Additional information on the determinations in this notice, including the results of consultation, can be found in the inventory or related records held by the Stillwater National Wildlife Refuge.

Description

Human remains representing, at minimum, one individual was removed from Churchill County, NV. In 1969, modern human activity exposed skeletal material in a sand dune near the shore of a small lake located on Stillwater Wildlife Management Area. The site was brought to the attention of the Nevada Archaeological Survey at the Desert Research Institute, Nevada. Dr. Hardesty a professor of anthropology and archaeology at the University of Nevada, Reno inspected the site and determined the likelihood of further damage was high and the best possible recourse at the time was to recover as much of the disturbed material as possible. He recovered all human bone, a mano fragment, and a freshwater shell. Also noted in the vicinity was scattered shell and charcoal to a depth of 15 cm below the surface, but the origin of this material could not be determined. Site dating was not possible as a result. The two associated funerary objects are one stone mano fragment and one shell.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: based on lifeway, oral tradition, folklore, geography, anthropology, ethnography, archeology, and expert opinion.

Determinations

Pursuant to NAGPRA and its implementing regulations, and after consultation with the appropriate Indian Tribes and Native Hawaiian organizations, the Stillwater National Wildlife Refuge has determined that:

• The human remains described in this notice represent the physical remains of one individual of Native American ancestry.

• The two objects described in this notice are reasonably believed to have been placed with or near individual human remains at the time of death or later as part of the death rite or ceremony.

• There is a relationship of shared group identity that can be reasonably traced between the human remains and associated funerary objects described in this notice and the Paiute-Shoshone Tribe of the Fallon Reservation and Colony, Nevada.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 29, 2024. If competing requests for repatriation are received, the Stillwater National Wildlife Refuge must determine the most appropriate requestor prior to repatriation. Requests for joint repatriation of the human remains and associated funerary objects are considered a single request and not competing requests. The Stillwater National Wildlife Refuge is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: January 24, 2024.
Melanie O'Brien,
Manager, National NAGPRA Program.

[FR Doc. 2024-01802 Filed 1-29-24; 8:45 am]

BILLING CODE 4312-52-P